DEPARTMENT OF THE INTERIOR

Bureau of Land Management

DEPARTMENT OF AGRICULTURE

Forest Service

[LLWY920000/L51010000.ER0000/LVRWK09K0990/241A; WYW-174598; IDI-35849; NVN-089270]

Notice of Availability of the Draft Environmental Impact Statement for the Gateway West 230/500 kV Transmission Line Project in Idaho, Nevada, and Wyoming and Prospective Draft Land Use Plan Amendments

AGENCY: Bureau of Land Management, Interior; and U.S. Forest Service, Agriculture.

ACTION: Notice of Availability.

SUMMARY: The Bureau of Land Management (BLM) and the U.S. Forest Service (USFS) announce the availability of the Gateway West Transmission Line Project DEIS and prospective draft Land Use Plan (LUP) Amendments. The DEIS analyzes the consequences of granting a right-of-way (ROW) to Idaho Power and Rocky Mountain Power for locating a 1,103-mile-long electric transmission line from the proposed Windstar Substation near the Dave Johnston Power Plant at Glenrock, Wyoming, to the proposed Hemingway Substation near Melba, Idaho. The project is composed of 10 transmission line segments of 230 and 500 kilovolts (kV); each segment would carry up to 3,000 megawatts (MW).

The requested ROW width would generally be 300 feet but could range from 125 to 350 feet, depending on the design variation and structure type. The proposed route generally follows existing transmission lines and West-wide Energy (WWE) corridors designated pursuant to Section 368 of the Energy Policy Act of 2005. Approximately 610 miles (55 percent) of the proposed route is located within or adjacent to designated corridors or existing transmission lines.

Approximately 500 miles (46 percent) of the total proposed length traverses Federally administered land in Idaho and Wyoming. In Idaho, approximately 280 miles of the proposed transmission lines would cross public land administered by seven BLM Field Offices: Bruneau, Burley, Four Rivers, Jarbidge, Owyhee, Pocatello, and Shoshone. In Wyoming, approximately 220 miles of the proposed transmission lines would cross public land administered by four BLM Field Offices: Casper, Kemmerer, Rawlins, and Rock Springs. The proposed route crosses approximately 16 miles in two units of the National Forest System: 7 miles in the Douglas Ranger District of the Medicine Bow-Routt National Forest in Wyoming and 9 miles in the Montpelier Ranger District of the Caribou-Targhee National Forest in Idaho. In addition, the proposed route crosses approximately 5 miles of land administered by the Bureau of Reclamation. Alternative routes are proposed that would cross the Sawtooth National Forest in Idaho, the Fort Hall Indian Reservation, and the acquisition area of the Cokeville Meadows National Wildlife Refuge. One alternative route in Segment #7 extends 9.5 miles into Nevada with approximately 7 miles on public land administered by the Wells Field Office.

This project includes prospective amendments of USFS Land and Resource Management Plans (Forest Plans) and BLM land use plans (Management Framework Plans and Resource Management Plans). By this notice, and the Notice of Intent to prepare an EIS filed in May 2008 (see below), BLM is complying with requirements in 43 Code of Federal Regulations (CFR) 1610.2(c) and the USFS is complying with 36 CFR 219.8 to notify the public of potential amendments to land use plans. The BLM and USFS are integrating the land use planning process with the National Environmental Policy Act (NEPA) analysis process for this project.

Your input is important and will be considered in the environmental analysis process. All comment submissions must include the commenter's name and street address. Comments including the names and addresses of the respondent will be available for public inspection at the locations listed below during their business hours (7:45 a.m. to 4:30 p.m.), Monday through Friday, except Federal holidays. Before including your address, phone number, e-mail address, or any other personal identifying information in your comment, be advised that your entire comment, including your personal identifying information, may be publicly available at any time. While you may ask us in your comment to withhold from public review your personal identifying information, we cannot guarantee that we will be able to do so.

DATES: The DEIS is now available for public review. The BLM and USFS request that comments be structured so that they are meaningful and alert the agencies to a reviewer's position and contentions. In order to be considered in the Final EIS, written comments on the Draft EIS must be received within 90 days after EPA's publication in the Federal Register of a Notice of Availability of this Draft EIS. The BLM and USFS will consider timely filed comments and respond to them in the final EIS. All public meetings or other involvement activities for the Gateway West Transmission Line Project will be announced to the public by the BLM at least 15 days in advance through public notices, media news releases, Web site announcements, or mailings.

ADDRESSES: Copies of the DEIS have been sent to affected Federal, State, and local Governments, public libraries in the project area, and to interested parties that previously requested a copy. The DEIS and supporting documents will be available electronically on the following Web site: http://www.wy.blm.gov/nepa/cfodocs/gateway_west/. Copies of the DEIS are available for public inspection during normal business hours at the following locations:

• Bureau of Land Management, Wyoming State Office, Public Room, 5353 Yellowstone Road, Cheyenne, Wyoming 82009;

• Bureau of Land Management, Casper Field Office, 2987 Prospector Drive, Casper, Wyoming 82604;

• Bureau of Land Management, Rawlins Field Office, 1300 North Third Street, Rawlins, Wyoming 82301;

• Bureau of Land Management, Rock Springs Field Office, 280 Highway 191 North, Rock Springs, Wyoming 82901;

• Bureau of Land Management, Kemmerer Field Office, 312 Highway 189 North, Kemmerer, Wyoming 83101;

• Bureau of Land Management, Nevada State Office, Public Room, 1340 Financial Boulevard, Reno, Nevada 89502;

• Bureau of Land Management, Wells Field Office, 3900 East Idaho Street, Elko, Nevada 89801;

• Bureau of Land Management, Idaho State Office, Public Room, 1387 South Vinnell Way, Boise, Idaho 83709;

• Bureau of Land Management, Pocatello Field Office, 4350 Cliffs Drive, Pocatello, Idaho 83204;

• Bureau of Land Management, Idaho Falls District Office, 1405 Hollipark Drive Idaho Falls, Idaho 83401;

• Bureau of Land Management, Burley Field Office, 15 East 200 South, Burley, Idaho 83318;

• Bureau of Land Management, Twin Falls District Office, 2536 Kimberly Road, Twin Falls, Idaho 83301;

• Bureau of Land Management, Shoshone Field Office, 400 West F Street, Shoshone, Idaho 83325;

• Bureau of Land Management, Boise District Office, 3948 Development Avenue, Boise, Idaho 83705;

• Bureau of Land Management, Owyhee Field Office, 20 First Avenue West, Marsing, Idaho 83639;

• U.S. Department of Agriculture, Medicine Bow-Routt National Forest, 2468 Jackson Street, Laramie, WY 82070-6535;

• U.S. Department of Agriculture, Medicine Bow-Routt National Forest, Douglas Ranger District, 2250 East Richards Street, Douglas, WY 82633-8922;

• U.S. Department of Agriculture, Caribou-Targhee National Forest, Montpelier Ranger District, 322 North 4th Street, Montpelier, Idaho 83254; and

• U.S. Department of Agriculture, Sawtooth National Forest, Minidoka Ranger District, 3650 Overland Avenue, Burley, Idaho 83318.

A limited number of copies of the document will be available as supplies last. To request a copy, contact Walt George, Project Manager, Wyoming State Office, P.O. Box 20879, Cheyenne, Wyoming 82003.

Written comments may be submitted by the following methods:

• Web site: http://www.wy.blm.gov/nepa/cfodocs/gateway_west.

• E-mail: Gateway_West_WYMail@blm.gov.

• Mail: Bureau of Land Management, Gateway West Project, P.O. Box 20879, Cheyenne, Wyoming 82003.

• Courier or Hand Deliver: Bureau of Land Management, Gateway West Project, 5353 Yellowstone Road, Cheyenne, Wyoming 82009.

FOR FURTHER INFORMATION CONTACT: Walt George, Project Manager, c/o Bureau of Land Management, Wyoming State Office, P.O. Box 20879, Cheyenne, Wyoming 82003 or by telephone at (307) 775-6116. Any persons wishing to be added to a mailing list of interested parties may write or call the Project Manager, at this address or phone number.

SUPPLEMENTARY INFORMATION: In May 2007, Idaho Power and Rocky Mountain Power (the Proponents) submitted a ROW application to the BLM requesting authorization to construct, operate, maintain, and decommission electric transmission lines on public lands. The application was revised in October 2007, August 2008, May 2009, and January 2010 to reflect changes to the proposed action. The Proponents' objective for the project is to improve the reliability and efficiency of both utilities' systems and address congestion problems with the western electrical grid. The project is needed to meet projected load growth in the Proponents' Service Areas. The project would also tap the developing renewable energy market, especially wind energy, in Idaho and Wyoming and will aid in delivering that energy throughout the region. The BLM and USFS's purpose and need for the EIS is so that the agencies may respond to the Proponents' application.

On May 16, 2008, the BLM published in the Federal Register (FR Vol. 73, No. 96, pages 28425-28426) its Notice of Intent to prepare an EIS pursuant to NEPA, as required by Federal regulations promulgated for the Federal Land Policy and Management Act (FLPMA) found at 43 CFR Part 2800. The BLM is the lead Federal agency for the NEPA analysis process and preparation of the EIS. Cooperating agencies include: the USFS, National Park Service, U.S. Fish and Wildlife Service, Bureau of Indian Affairs, and U.S. Army Corps of Engineers; the States of Idaho and Wyoming; the Idaho Army National Guard; Cassia, Power, and Twin Falls Counties, Idaho; Elko County, Nevada; Lincoln, Sweetwater, and Carbon Counties, Wyoming; the Medicine Bow and Saratoga-Encampment-Rawlins Conservation Districts in Wyoming; and the City of Kuna, Idaho.

To allow the public an opportunity to review the proposal and project information, the BLM held public meetings in June 2008 in: Twin Falls, Murphy, Pocatello, Boise, and Montpelier, Idaho; and Casper, Rawlins, Rock Springs, and Kemmerer, Wyoming. Issues and potential impacts to specific resources were identified during scoping and the course of the NEPA process.

The following project issues were identified in the scoping process:

• Siting on private lands versus public lands,

• Land use conflicts and consistency with land use plans,

• Electric grid reliability and separation distances of transmission lines,

• Effects on wildlife habitat, plants, and animals including threatened, endangered, and sensitive species (especially sage grouse),

• Effects to visual resources and existing view sheds,

• Effects to National Historic Trails and their view sheds,

• Effects to Native American traditional cultural properties and respected places,

• Effects to paleontological resources in southwest Wyoming,

• Avoiding sensitive areas such as National Monuments and Wildlife Refuges, military operating areas, National Conservation Areas, Areas of Critical Environmental Concern, and State Parks,

• Effects to soils and water from surface disturbing activities,

• Effect of the project on local and regional socioeconomic conditions, and

• Management of invasive plant species and ensuring effective reclamation.

In response to scoping comments, Idaho Power and Rocky Mountain Power made route changes in Segments 1, 2, 4, 5, 7, 8, and 9 of their original proposal. The proposed action analyzed in the DEIS reflects these revisions to the route. In addition to the proposed action, the DEIS considers the No Action alternative, a structure variation, a phased construction alternative, and 41 route segment alternatives in detail. Other system alternatives and route variations were considered but eliminated from detailed study. Department of the Interior regulations (43 CFR 46.425) give agencies flexibility when identifying preferred alternatives in the DEIS, stating that: “* * * the draft environmental impact statement should identify the bureau's preferred alternatives or alternatives [and] the final environmental impact statement must identify the bureau's preferred alternative.” Because substantial differences exist, in some project segments, among cooperating agencies on the preferred route alternative, and the full range of public input on route alternatives will not be available to the BLM until after the DEIS public comment period, the BLM is deferring identification of its preferred route alternative until the Final EIS.

The DEIS analyzes the potential environmental consequences of granting a ROW to Idaho Power and Rocky Mountain Power to construct an approximately 1,100-mile transmission line from Glenrock, Wyoming, to its terminus at facilities near Melba, Idaho. The Proposed Route consists of 10 segments:

Segment 1 consists of three transmission lines designated 1E, 1W(a), and 1W(c)—between the planned Windstar Substation near the Dave Johnston Power Plant at Glenrock, Wyoming, and the planned Aeolus Substation near Hanna, Wyoming. Segment 1E would include construction and operation of a 100 mile-long, single-circuit 230-kV transmission line across lands without existing major linear ROWs or designated corridors. Three alternative routes in Segment 1E were considered in detail, including one that parallels (but is outside of) an existing utility corridor for most of its length. Segment 1W is composed of two transmission lines: A new single-circuit 230-kV transmission line (1W(a)) that parallels an existing transmission line and reconstruction of the existing 230-kV transmission line (1W(c)). These two lines are approximately 75 miles long and are generally within a WWE corridor. One alternative route for Segment 1W is considered in detail.

Segment 2 consists of a 97-mile, double-circuit 500-kV transmission line between the Aeolus Substation and the Creston Substation near Wamsutter, Wyoming, which generally is within a WWE corridor. Three alternative route segments were considered in detail, including one that parallels but is outside of an existing utility corridor for approximately 28 miles.

Segment 3 consists of a 57-mile, double-circuit 230/500-kV line from the proposed Creston Substation south of Wamsutter, Wyoming, to the proposed Anticline Substation near the Jim Bridger Power Plant, located approximately 30 miles east of Rock Springs, Wyoming. Approximately 17.8 miles are within or parallel to a WWE corridor. No other alternative routes were considered in detail for this segment.

Segment 4 consists of a 203-mile, double-circuit 500-kV line between the Anticline Substation, near the Jim Bridger Power Plant, and the Populus Substation near Interstate 15 in southern Bannock County, Idaho. This segment generally is within an existing transmission line corridor. Six alternative route segments were considered in detail.

Segment 5 consists of a 55-mile, single-circuit 500-kV line between the planned Populus Substation and the existing Borah Substation in Power County, Idaho. Five alternative route segments were considered in detail.

Segment 6 consists of increasing the voltage capacity of an existing line from the Borah Substation to the Midpoint Substation located approximately 9 miles south of Shoshone, Idaho. The voltage would be increased to 500 kV on the existing Midpoint to Kinport 345-kV transmission line. Five new towers would be required. No new route alternatives were considered in detail because this is a rebuild of an existing line.

Segment 7 consists of a 118-mile, single-circuit 500-kV transmission line between the Populus Substation and the proposed Cedar Hill Substation near the county line between Cassia and Twin Falls Counties in Idaho. Ten alternative route segments were considered in detail, including two that cross the Sawtooth National Forest, one of which crosses into Nevada for approximately 9 miles.

Segment 8 consists of a 131-mile, single-circuit 500-kV transmission line between the Midpoint Substation and the Hemingway Substation, located approximately 30 miles southwest of Boise, Idaho. Five alternative route segments were considered in detail.

Segment 9 consists of a 162-mile, single-circuit 500-kV transmission line between the proposed Cedar Hill Substation and the planned Hemingway Substation near Murphy, Idaho. Eight alternative route segments were considered in detail.

Segment 10 consists of a 34-mile, single-circuit 500-kV transmission line between the Midpoint Substation, located approximately 9 miles south of Shoshone, and Cedar Hill Substation near the county line between Cassia and Twin Falls Counties in Idaho. No other alternative routes were considered in detail for this segment.

The BLM, USFS, Proponents, and Cooperating Agencies worked together to develop routes that would conform to existing Federal land use plans. However, this objective was not reached for many of the routes analyzed in the DEIS. Unlike the regulations at 43 CFR 46.425 that allow the BLM to defer identification of an agency preferred route alternative until the Final EIS, the BLM planning regulations at 43 CFR 1610.4-7 require identification of the BLM's Preferred Plan Amendment in the DEIS. The BLM has identified draft plan amendments below for each situation of nonconformance that would bring the Proposed or Alternative Route into conformance with the respective land use plan. Each of these plan amendments is the BLM's preferred plan amendment. The specific land use plan amendments actually needed will be determined by the final agency preferred route selected. Therefore, some of the following prospective plan amendments may not need to be implemented. The BLM will identify those plan amendments it intends to implement (as Proposed Plan Amendments), along with its preferred route, in the Final EIS.

The following land-use plan amendments may be needed to bring the Gateway West Transmission Line Project into conformance with the applicable Resource Management Plans (RMPs) and Management Framework Plans (MFPs) for BLM-managed lands and Land and Resource Management Plans (Forest Plans) for National Forest System lands crossed by the project, depending on project approval and on the final route selected. All prospective plan amendments will comply with applicable Federal laws and regulations, be analyzed in the Gateway West EIS, and apply only to Federal lands and mineral estate administered by the BLM or USFS.

Casper RMP: An amendment may be needed for visual resource management.

Rawlins RMP: An amendment may be needed for visual resource management.

Green River RMP: Amendments may be needed for visual resource management, sage-grouse, and raptor management.

Kemmerer RMP: Amendments may be needed for management of visual resources, historic trails, heritage resources, sage-grouse, the Rock Creek/Tunp Special Designation Area, and recreation.

Malad MFP: Amendments may be needed for management of visual resources and to designate a new utility corridor.

Bennett Hills/Timmerman Hills MFP: An amendment may be needed for visual resource management.

Cassia RMP: Amendments may be needed for management of visual resources, historic trails, and to designate a new utility corridor.

Twin Falls MFP: An amendment may be needed for visual resource management and to allow a linear facility outside of existing corridors.

Jarbidge RMP: Amendments may be needed for management of visual resources, paleontological sites, historic trails, to adjust management objectives in an ACEC, and to designate a new utility corridor.

Kuna MFP: An amendment may be needed for a historic site and to designate a new utility corridor.

Morley Nelson Snake River Birds of Prey National Conservation Area RMP: Amendments may be needed for management of visual resources, non-motorized area management, to adjust management objectives in a Special Recreation Management Area, sensitive plant habitat, and to designate a new utility corridor.

Bruneau MFP: An amendment may be needed for visual resource management.

Wells RMP: An amendment may be needed to allow a linear facility outside of identified planning corridors.

Medicine Bow Forest Plan: An amendment may be needed for management of visual resources, goshawk and amphibian habitat, recreation, and to change the management prescription for any area crossed by new transmission lines not within the WWE corridor.

Caribou Forest Plan: An amendment may be needed to designate a new utility corridor.

Sawtooth Forest Plan: An amendment may be needed for management of visual resources and recreation.

The DEIS analyzes the environmental consequences of the No Action alternative, the proposed action, segment and design alternatives, and land use plan amendments. For this EIS, the No Action alternative means that the Idaho Power and Rocky Mountain Power ROW application for the Gateway West project would be denied by the BLM. The BLM will utilize and coordinate the NEPA commenting process to satisfy the public involvement process for Section 106 of the National Historic Preservation Act (16 U.S.C. 470f), as provided for in 36 CFR 800.2(d)(3). Ongoing Native American Tribal consultations will continue to be conducted in accordance with policy, and Tribal concerns, including impacts on Indian trust assets, will be given due consideration. Federal, State, and local agencies, along with other stakeholders that may be interested or affected by the BLM's decision on this project, are invited to participate.

Brent L. Larson,
Forest Supervisor, Caribou-Targhee National Forest.
Donald A. Simpson,
Wyoming State Director.

[FR Doc. 2011-19094 Filed 7-28-11; 8:45 am]

BILLING CODE 4310-22-P